DEPARTMENT OF HEALTH AND HUMAN SERVICES

National Institutes of Health

Submission for OMB Review; Comment Request; Preventing Motor Vehicle Crashes Among Young Drivers

Summary: Under the provisions of Section 3507(a)(1)(D) of the Paperwork Reduction Act of 1995, the National Institute of Child Health and Human Development (NICHD), the National Institutes of Health (NIH) has submitted to the Office of Management and Budget (OMB) a request for review and approval of the information collection listed below. This proposed information collection was previously published in the Federal Register on June 13, 2006, page 34142, and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: Preventing Motor Vehicle Crashes Among Young Drivers, OMB No. 0925-new.

Type of Information Collection Request: New.

Need and Use of Information Collection: Motor vehicle crash risk is particularly elevated among novice young drivers during the first six months and 1000 miles of independent driving. Previously, researchers in the Prevention Research Branch of the NICHD have demonstrated the efficacy of the Checkpoints Program for increasing parental management of teen driving and reducing exposure to high risk driving conditions during the first 12 months after licensure. The current research seeks to test the effectiveness of providing an educational program entitled The Checkpoints Program to facilitate parental management of teen driving when delivered at motor vehicle administration offices at the time the teen obtains a permit, at the time of license, or at both permit and license.

Frequency of Response: 3 times over two years.

Affected Public: Individuals or households.

Type of Respondents: Adolescents and parents/guardians.

The annual reporting burden is as follows: Estimated Number of Respondents: 4000; Estimated Number of Responses per Respondent: 3; Average Burden Hours Per Response: 35; and Estimated Total Annual Burden Hours Requested: 4,200. The annualized cost to respondents is estimated at: $42,000 (based on $10 per hour).

There are no Capital Costs to report. There are no Operating or Maintenance Costs to report.

—
Type of respondents | Estimated number of respondents | Estimated number of responses per respondent | Average burden hours per response | Estimated total annual burden hours requested
Parents/guardians | 2000 | 3 | .35 | 2100
Teens | 2000 | 3 | .35 | 2100
Total | 4000 | 3 | .35 | 4200

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact Dr. Bruce Simons-Morton, Chief, Prevention Research Branch, DESPR, NICHD, NIH, 6100 Executive Blvd., Rm 7B05, MSC 7510, Bethesda, MD 20892-7510; (301) 496-5674; e-mail: mortonb@mail.nih.gov.

Comments Due Date: Comments regarding this information collection are best assured of having their full effect if received within 30-days of the date of this publication.

Dated: August 25, 2006.
Paul Johnson,
Project Clearance Liaison, NICHD, National Institutes of Health.

[FR Doc. E6-14680 Filed 9-5-06; 8:45 am]

BILLING CODE 4140-01-P